DEPARTMENT OF ENERGY

Federal Energy Regulatory Commission

[Docket No. RP00-199-000]

Reliant Energy Gas Transmission Company; Notice of Technical Conference

April 13, 2000.

In the Commission's order issued on March 31, 2000,¹ the Commission directed that a technical conference be held to address issues raised by the filing.

¹ 90 FERC ¶ 61,341.

Take notice that the technical conference will be held on Tuesday, May 2, 2000, at 9:30 am, in a room to be designated at the offices of the Federal Energy Regulatory Commission, 888 First Street, NE, Washington, DC 20426.

All interested parties and Staff are permitted to attend.

David P. Boergers,
Secretary.

[FR Doc. 00-9767 Filed 4-18-00; 8:45 am]

BILLING CODE 6717-01-M